DEPARTMENT OF ENERGY

[Docket No. EA-295]

Application To Export Electric Energy; Merrill Lynch Commodities, Inc.

AGENCY: Office of Fossil Energy, DOE.

ACTION: Notice of application.

SUMMARY: Merrill Lynch Commodities, Inc. (MLCI), has applied for authority to transmit electric energy from the United States to Canada pursuant to section 202(e) of the Federal Power Act.

DATES: Comments, protests or requests to intervene must be submitted on or before October 20, 2004.

ADDRESSES: Comments, protests or requests to intervene should be addressed as follows: Office of Coal & Power Systems (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On September 7, 2004, the Office of Fossil Energy (FE) of the Department of Energy (DOE) received an application from MLCI to transmit electric energy from the United States to Canada. MLCI is a Delaware corporation with its principal place of business located in New York City, NY. MLCI is an indirect wholly-owned subsidiary of Merrill Lynch & Co. Inc., a Delaware corporation. MLCI has requested an electricity export authorization with a 5-year term. MLCI does not own or control any transmission or distribution assets, nor does it have a franchised service area. The electric energy which MLCI proposes to export to Canada would be purchased from electric utilities and Federal power marketing agencies within the U.S.

MLCI proposes to arrange for the delivery of electric energy to Canada over the existing international transmission facilities owned by Basin Electric Power Cooperative, Bonneville Power Administration, Eastern Maine Electric Cooperative, International Transmission Company, Joint Owners of the Highgate Project, Long Sault, Inc., Maine Electric Power Company, Maine Public Service Company, Minnesota Power Inc., Minnekota Power Cooperative, New York Power Authority, Niagara Mohawk Power Corporation, Northern States Power, Vermont Electric Power Company and Vermont Electric Transmission Company. The construction, operation, maintenance, and connection of each of the international transmission facilities to be utilized by MLCI, as more fully described in the application, has previously been authorized by a Presidential permit issued pursuant to Executive Order 10485, as amended.

Procedural Matters: Any person desiring to become a party to this proceeding or to be heard by filing comments or protests to this application should file a petition to intervene, comment or protest at the address provided above in accordance with section 385.211 or 385.214 of the FERC's Rules of Practice and Procedures (18 CFR 385.211, 385.214). Fifteen copies of each petition and protest should be filed with DOE on or before the date listed above.

Comments on the MLCI application to export electric energy to Canada should be clearly marked with Docket EA-295. Additional copies are to be filed directly with Locke R. McMurray, Merrill Lynch Commodities, Inc., Four World Financial Center, 12th Floor, New York, NY 10080 and David J. Levine and Donna M. Sauter, McDermott Will & Emery LLP, 600 13th Street, NW., Washington, DC 20005-3096.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Procedures” from the options menus.

Issued in Washington, DC, on September 14, 2004.
Anthony J. Como,
Deputy Director, Electric Power Regulation, Office of Coal & Power Systems, Office of Fossil Energy.

[FR Doc. 04-21057 Filed 9-17-04; 8:45 am]

BILLING CODE 6450-01-P